DEPARTMENT OF HEALTH AND HUMAN SERVICES

National Institutes of Health Statement of Organization, Functions, and Delegations of Authority

Part N, National Institutes of Health, of the Statement of Organization, Functions, and Delegations of Authority for the Department of Health and Human Services (40 FR 22859, May 27, 1975, as amended most recently at 66 FR 6617, January 22, 2001, and redesignated from Part HN as Part N at 60 FR 56605, November 9, 1995), is amended as set forth below to establish the Office of Portfolio Analysis (OPA) and Office of Program Evaluation and Performance (OPEP) within the Division of Program Coordination, Planning and Strategic Initiative (DPCPSI) within the Office of the Director.

Section N-AW, Organization and Functions, is amended as follows: Immediately after the paragraph headed “Office of Portfolio Analysis and Strategic Initiatives” (N AW6, formerly HN AW6), insert the following:

Office of Portfolio Analysis (N AW7, formerly N AW7) (1) Prepare and analyze data on NIH sponsored biomedical research to inform trans-NIH planning and coordination; (2) serve as a resource for portfolio management at the programmatic level; (3) employ databases, analytic tools, methodologies and other resources to conduct assessments in support of portfolio analyses and priority setting in scientific areas of interest across NIH; (4) research and develop new analytic tools, support systems, and specifications for new resources in coordination with other NIH organizations to enhance the management of the NIH's scientific portfolio; and (5) provide, in coordination with other NIH organizations, training on portfolio analysis tools, procedures, and methodology.

Office of Program Evaluation and Performance (N AW8, formerly N AW8) (1) Plan, conduct, coordinate, and support program evaluations, including IC-specific program and project evaluations and trans-NIH evaluations; (2) manage and administer NIH's Evaluation Set-Aside Program; (3) coordinate and direct the preparation of plans and reports required by the Government Performance and Results Act (GPRA), including the development of required performance measures; (4) identify and advise on emerging national issues within program evaluation and performance, including NIH's response to legislative, regulatory, and policy requirements of the GPRA and administration of the NIH-wide evaluation program.

Delegations of Authority Statement: All delegations and redelegations of authority to officers and employees of NIH that were in effect immediately prior to the effective date of this reorganization and are consistent with this reorganization shall continue in effect, pending further redelegation.

Dated: January 21, 2011.
LaVerene Stringfield,
Associate Director for Management, OD, ES, NIH.

[FR Doc. 2011-2848 Filed 2-8-11; 8:45 am]

BILLING CODE 4140-01-P